DEPARTMENT OF HEALTH AND HUMAN SERVICES

National Institutes of Health

Proposed Collection; Comment Request; BrainTrain4Kids: New Delivery of the Brain Power Program

SUMMARY: In compliance with the requirement of Section 3506(c)(2)(A) of the Paperwork Reduction Act of 1995, for opportunity for public comment on proposed data collection projects, the National Institute on Drug Abuse (NIDA), the National Institutes of Health (NIH) will public periodic summaries of proposed projects to be submitted to the Office of Management and Budget (OMB) for review and approval.

PROPOSED COLLECTION: Title: BrainTrain4Kids: New Delivery of the Brain Power Program.

Type of Information Collection Request: NEW.

Need and Use of Information Collection: This research will evaluate the effects of BrainTrain4Kids.com, an online program for students (Grades 2 and 3), on: (1) Students' knowledge of scientific inquiry, the human nervous system, the effects of alcohol and tobacco on the brain, and the differences between helpful and harmful drugs; (2) students' attitudes toward science in general; and (3) students' attitudes toward substance abuse. The secondary goals of the summative evaluation are to determine if changes in knowledge and attitudes are retained over a follow-up period as well as to determine if parents and second- and third-grade students will report a high degree of satisfaction with the online program. The online program is a new delivery of a National Institute on Drug Abuse science education curriculum for second- and third-grade teachers (Brain Power! The NIDA Junior Scientist Club) adapted for the Internet and for use by students at home under the guidance of their parents. if the new program is successful, the public will access to an evidence-based program via the Internet that contributes to scientific literacy and provides a basis of knowledge upon which to build future substance abuse prevention. In order to evaluate the effectiveness of the program, information will be collected from students before (pretest) and after (post-test) exposure to the website and again 3 to 6 weeks after the program has been completed (follow-up). Parents will be asked to complete usage logs at three points during their use of the BrainTrain4Kids website with their children. Prior to the evaluation study, the knowledge and attitude assessment instruments will be pilot-tested with a sample of students to determine validity and reliability. Additionally, during the development phase of the project, satisfaction surveys will be administered to students, parents, and teachers at two points during the development of the website to collect preference data and assess the level of satisfaction with the website. This is necessary to ensure target audience satisfaction with the final program. All data collection will occur online.

Frequency of Response: On occasion.

Affected Public: Second- and third-grade students, their parents, and their teachers.

Type of Respondents: Second- and third-grade students, their parents, and their teachers. The reporting burden is as follows:

Estimated Number of Respondents: 410.

Estimated Number of Responses per Respondent: one for seven key cohorts, three for one key cohort and six for one key cohort.

Average Burden Hours per Response: 0.574.

Estimated Total Annual Burden Hours Requested: 637.5.

There are no Capital Costs to report. There are no Operating or Maintenance Costs to report. The estimated annualized burden is summarized below.

Type of respondents | Estimated number of respondents | Estimated number of responses per respondent | Average burden hours per response | Estimated total burden hours requested
Students (Assessment Instrument Development) | 30 | 1 | 0.75 | 22.5
Students (Summative Evaluation) | 100 | 3 | 0.75 | 225
Students (Satisfaction Survey 1) | 30 | 1 | 0.5 | 15
Students (Satisfaction Survey 2) | 30 | 1 | 0.5 | 15
Parents (Summative Evaluation) | 100 | 6 | 0.5 | 300
Parents (Satisfaction Survey 1) | 30 | 1 | 0.5 | 15
Parents (Satisfaction Survey 2) | 30 | 1 | 0.5 | 15
Teachers (Satisfaction Survey 1) | 30 | 1 | 0.5 | 15
Teachers (Satisfaction Survey 2) | 30 | 1 | 0.5 | 15
Total | 410 |  |  | 637.5

Request for comments: Written comments and/or suggestions from the public and affected agencies are invited on one or more of the following points: (1) Whether the proposed collection of information is necessary for the proper performance of the function of the agency, including whether the information will have practical utility; (2) the accuracy of the agency's estimate of the burden of the proposed collection of information, including the validity of the methodology and the assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Dr. Catherine Sasek, Coordinator, Science Education Program, Office of Science Policy and Communications, National Institute on Drug Abuse, 6001 Executive Blvd, Room 5237, Bethesda, MD 20892, or call non-toll-free number (301) 443-6071; fax (301) 443-6277; or by e-mail to csasek@nida.nih.gov.

Comments due Date: Comments regarding this information collection are best assured of having their full effect is received within 60 days of the date of this publication.

Dated: December 1, 2004.
Laura Rosenthal,
Associate Director for Management, National Institute for Drug Abuse.

[FR Doc. 04-26881 Filed 12-7-04; 8:45 am]

BILLING CODE 4140-01-M